DEPARTMENT OF LABOR

Employment and Training Administration

[Docket No. TA-W-39,939 and TA-W-39,939A]

Willamette Industries, Inc., Korpine Particleboard Division, Including Temporary Workers of Express Personnel Services, Bend, Oregon; Willamette Industries, Inc., Particleboard Sales Office, Albany, Oregon; Amended Certification Regarding Eligibility To Apply for Worker Adjustment Assistance

In accordance with section 223 of the Trade Act of 1974 (19 USC 2273) the Department of Labor issued a Certification of Eligibility to Apply for Worker Adjustment Assistance on January 15, 2002, applicable to workers of Willamette Industries, Inc., Korpine Particleboard Division, Bend, Oregon. The notice was published in the Federal Register on January 31, 2002 (67 FR 4750).

At the request of the State agency, the Department reviewed the certification for workers of the subject firm. Information provided by the State and the company shows that temporary workers of Express Personnel were employed at Willamette Industries, Korpine Particleboard Division to produce industrial pine particleboard at the Bend, Oregon location of the subject firm.

Information also shows that worker separations occurred at the Particleboard Sales Office, Albany, Oregon. Workers provide sales function services for the Korpine Particleboard Division of the subject firm.

Based on these findings, the Department is amending the certification to include temporary workers of Express Personnel Services, Bend, Oregon employed at Willamette Industries, Inc., Korpine Particleboard Division, Bend, Oregon and to include the Particleboard Sales Office, Albany, Oregon.

The intent of the Department's certification is to include all workers of Willamette Industries, Inc., Korpine Particleboard Division adversely affected by imports.

The amended notice applicable to TA-W-39,939 is hereby issued as follows:

“All workers of Willamette Industries, Inc. Korpine Particleboard Division, Bend, Oregon including temporary workers of Express Personnel Services, Bend, Oregon (TA-W-39,939) engaged in employment related to the production of industrial pine particleboard at Willamette Industries, Inc., Korpine Particleboard Division, Bend, Oregon, and all workers of Willamette Industries, Particleboard Sales Office, Albany, Oregon (TA-W-39,939A) who became totally or partially separated from employment on or after August 17, 2000 through January 15, 2004, are eligible to apply for adjustment assistance under Section 223 of the Trade Act of 1974.”

Signed at Washington, DC, this 4th day of February, 2002.
Linda G. Poole,
Certifying Officer, Division of Trade Adjustment Assistance.

[FR Doc. 02-3406 Filed 2-12-02; 8:45 am]

BILLING CODE 4510-30-M